DEPARTMENT OF HEALTH AND HUMAN SERVICES

Office of the Secretary

Request for Comments on the Draft Departmental Strategic Plan for FY 2014-2018

AGENCY: Office of the Secretary, Health and Human Services.

ACTION: Request for comments on the draft strategic plan FY 2014-2018.

SUMMARY: The Department of Health and Human Services (HHS) is seeking public comment on its draft Strategic Plan for fiscal years 2014-2018.

DATES: Submit comments on or before October 15, 2013

ADDRESSES: Written comments can be provided by email, fax or U.S. mail.

Email: strategicplanning@hhs.gov.

Fax: (202) 690-8252.

Mail: U.S. Department of Health and Human Services, Office of the Assistant Secretary for Planning and Evaluation, Strategic Planning Team, Attn: Strategic Plan Comments, 200 Independence Avenue SW., Room 446F.8, Washington, DC 20201.

FOR FURTHER INFORMATION CONTACT: Sarah Potter, (202) 260-6518.

SUPPLEMENTARY INFORMATION: The draft Department of Health and Human Services FY 2014-2018 Strategic Plan is provided as part of the strategic planning process under the Government Performance and Results Modernization Act of 2010 (GPRA-MA) (Pub. L. 111-352) to ensure that Agency stakeholders are given an opportunity to comment on this plan.

This document articulates how the Department will achieve its mission through four strategic goals. These four strategic goals are (1) Strengthen Health Care, (2) Advance Scientific Knowledge and Innovation, (3) Advance the Health, Safety, and Well-Being of the American People, (4) Ensure Efficiency, Transparency, Accountability, and Effectiveness of HHS Programs. Each goal is supported by objectives and strategies.

The strategic planning consultation process is an opportunity for the Department to refine and strengthen the strategic goal structure currently in place. For comparison purposes, the current HHS Strategic Plan FY 2010-2015 can be viewed at http://www.hhs.gov/secretary/about/priorities/priorities.html.

The Department has made significant progress in its strategic and performance planning efforts. As we build on this progress we look forward to receiving your comments by October 15, 2013. The text of the draft Strategic Plan FY 2014-2018 is available through the Department of Health and Human Services Web site at http://www.hhs.gov/open/recordsandreports/strategic-plan/index.html.

For those who may not have Internet access, a hard copy can be requested from the contact point, Sarah Potter, 202-260-6518.

Dated: September 4, 2013.
Donald B. Moulds,
Acting Assistant Secretary for Planning and Evaluation.

[FR Doc. 2013-21993 Filed 9-9-13; 8:45 am]

BILLING CODE 4151-05-P